DEPARTMENT OF HOMELAND SECURITY

Federal Emergency Management Agency

[Docket ID FEMA-2016-0002; Internal Agency Docket No. FEMA-B-1616]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 26, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1616, to Rick Sacbibit, Chief, Engineering Services Branch, Federal Insurance and Mitigation Administration, FEMA, 500 C Street SW., Washington, DC 20472, (202) 646-7659, or (email) patrick.sacbibit@fema.dhs.gov.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: April 12, 2016.
Roy E. Wright,
Deputy Associate Administrator for Insurance and Mitigation, Department of Homeland Security, Federal Emergency Management Agency.

I. Watershed-based studies:

Community | Community map repository address
Upper Saline Watershed
Maps Available for Inspection Online at: http://www.fema.gov/preliminaryfloodhazarddata
Grant County, Arkansas, and Incorporated Areas
City of Sheridan | City Hall, 106 West Bell Street, Sheridan, AR 72150.
Town of Leola | Town Hall, 400 Lee Street, Leola, AR 72084.
Town of Poyen | Town Hall, 111 North Front Street, Poyen, AR 72128.
Town of Prattsville | Mayor's Office, 9251 Highway 270 West, Prattsville, AR 72129.
Town of Tull | Community Center, 8208 North Main Street, Tull, AR 72015.
Unincorporated Areas of Grant County | Grant County Assessor's Office, 101 West Center Street, Room 102, Sheridan, AR 72150.

II. Non-watershed-based studies:

Community | Community map repository address
Lafayette County, Florida, and Incorporated Areas
Maps Available for Inspection Online at: http://www.fema.gov/preliminaryfloodhazarddata
Project: 10-04-8512S Preliminary Date: May 27, 2015
Unincorporated Areas of Lafayette County | Lafayette County Building Department, 120 West Main Street, Mayo, FL 32066.
Brunswick County, North Carolina, and Incorporated Areas
Maps Available for Inspection Online at: http://www.fema.gov/preliminaryfloodhazarddata
Project: 15-04-A111S Preliminary Date: March 31, 2015
City of Northwest | Northwest City Hall, 4889 Vernon Road, Leland, NC 28451.
Town of Oak Island | Town Hall, 4601 East Oak Island Drive, Oak Island, NC 28465.
Town of St. James | Town Hall, 4140 A Southport-Supply Road, St. James, NC 28461.
Unincorporated Areas of Brunswick County | Brunswick County Building Inspections Department, 75 Courthouse Drive, Building 1, Bolivia, NC 28422.
Camden County, North Carolina, and Incorporated Areas
Maps Available for Inspection Online at: http://www.fema.gov/preliminaryfloodhazarddata
Project: 11-04-8218S Preliminary Date: November 30, 2015
City of Elizabeth City | Planning Department, 302 East Colonial Avenue, Room 308, Elizabeth City, NC 27907.
Unincorporated Areas of Camden County | Camden County Offices, 117 North NC Highway 343, Camden, NC 27921.
Chatham County, North Carolina, and Incorporated Areas
Maps Available for Inspection Online at: http://www.fema.gov/preliminaryfloodhazarddata
Project: 14-04-A755S Preliminary Date: March 31, 2015
Unincorporated Areas of Chatham County | Chatham County Planning Department, 80-A East Street, Pittsboro, NC 27312.
Chowan County, North Carolina, and Incorporated Areas
Maps Available for Inspection Online at: http://www.fema.gov/preliminaryfloodhazarddata
Project: 11-04-8218S Preliminary Date: November 30, 2015
Town of Edenton | Town Hall, 400 South Broad Street, Edenton, NC 27932.
Unincorporated Areas of Chowan County | Chowan County Planning Department, 108 East King Street, Edenton, NC 27932.
Columbus County, North Carolina, and Incorporated Areas
Maps Available for Inspection Online at: http://www.fema.gov/preliminaryfloodhazarddata
Project: 15-04-A111S Preliminary Date: March 31, 2015
Unincorporated Areas of Columbus County | Columbus County Tax Office, 125 Washington Street, Whiteville, NC 28472.
Currituck County, North Carolina, and Incorporated Areas
Maps Available for Inspection Online at: http://www.fema.gov/preliminaryfloodhazarddata
Project: 11-04-8218S Preliminary Date: November 30, 2015
Unincorporated Areas of Currituck County | Currituck County Planning and Inspections Department, 153 Courthouse Road, Currituck, NC 27929.
Durham County, North Carolina, and Incorporated Areas
Maps Available for Inspection Online at: http://www.fema.gov/preliminaryfloodhazarddata
Project: 11-04-7660S Preliminary Date: March 31, 2015
City of Durham | City Hall, Public Works Department, 101 City Hall Plaza, Durham, NC 27701.
City of Raleigh | Engineering Department, Municipal Building, 222 West Hargett Street, Raleigh, NC 27601.
Town of Chapel Hill | Stormwater Management Program Office, 208 North Columbia Street, Chapel Hill, NC 27514.
Town of Morrisville | Planning Department, Town Hall, 260 Town Hall Drive, Suite B, Morrisville, NC 27560.
Unincorporated Areas of Durham County | Durham County Stormwater Services Division, 101 City Hall Plaza, Durham, NC 27701.
Franklin County, North Carolina, and Incorporated Areas
Maps Available for Inspection Online at: http://www.fema.gov/preliminaryfloodhazarddata
Project: 14-04-A755S Preliminary Date: March 31, 2015
Town of Wake Forest | Planning Department, 301 South Brooks Street, Third Floor, Wake Forest, NC 27587.
Unincorporated Areas of Franklin County | Franklin County Planning and Inspections, 215 East Nash Street, Louisburg, NC 27549.
Granville County, North Carolina, and Incorporated Areas
Maps Available for Inspection Online at: http://www.fema.gov/preliminaryfloodhazarddata
Project: 11-04-7906S Preliminary Date: March 31, 2015
City of Creedmoor | Planning and Zoning Department, 111 Masonic Street, Creedmoor, NC 27522.
City of Oxford | Planning Department, 300 Williamsboro Street, Oxford, NC 27565.
Town of Butner | Town Hall, 415 Central Avenue, Butner, NC 27509.
Town of Stem | Town Office, 113 Tally Ho Road, Stem, NC 27581.
Unincorporated Areas of Granville County | Granville County Planning Department, 122 Williamsboro Street, Oxford, NC 27565.
Johnston County, North Carolina, and Incorporated Areas
Maps Available for Inspection Online at: http://www.fema.gov/preliminaryfloodhazarddata
Project: 14-04-A755S Preliminary Date: March 31, 2015
Unincorporated Areas of Johnston County | Johnston County Planning Department, 309 East Market Street, Smithfield, NC 27577.
Orange County, North Carolina, and Incorporated Areas
Maps Available for Inspection Online at: http://www.fema.gov/preliminaryfloodhazarddata
Project: 14-04-A755S Preliminary Date: March 31, 2015
Town of Chapel Hill | Stormwater Management Program Office, 208 North Columbia Street, Chapel Hill, NC 27514.
Unincorporated Areas of Orange County | Orange County Planning Department, 131 West Margaret Lane, Suite 201, Hillsborough, NC 27278.
Pasquotank County, North Carolina, and Incorporated Areas
Maps Available for Inspection Online at: http://www.fema.gov/preliminaryfloodhazarddata
Project: 11-04-8218S Preliminary Date: November 30, 2015
City of Elizabeth City | Planning Department, 302 East Colonial Avenue, Room 308, Elizabeth City, NC 27907.
Unincorporated Areas of Pasquotank County | Pasquotank County Planning Department, 206 East Main Street, Elizabeth City, NC 27907.
Pender County, North Carolina, and Incorporated Areas
Maps Available for Inspection Online at: http://www.fema.gov/preliminaryfloodhazarddata
Project: 15-04-A111S Preliminary Date: March 31, 2015
Town of Watha | Town Hall, 425 Watha Road, Watha, NC 28478.
Unincorporated Areas of Pender County | Pender County Planning Department, 805 South Walker Street, Burgaw, NC 28425.
Perquimans County, North Carolina, and Incorporated Areas
Maps Available for Inspection Online at: http://www.fema.gov/preliminaryfloodhazarddata
Project: 11-04-8218S Preliminary Date: November 30, 2015
Town of Hertford | Town Hall, 114 West Grubb Street, Hertford, NC 27944.
Town of Winfall | Town Hall, 100 Park View Lane, Winfall, NC 27985.
Unincorporated Areas of Perquimans County | Perquimans County Inspections Department, 104 Dobbs Street, Hertford, NC 27944.
Person County, North Carolina, and Incorporated Areas
Maps Available for Inspection Online at: http://www.fema.gov/preliminaryfloodhazarddata
Project: 11-04-7906S Preliminary Date: March 31, 2015
City of Roxboro | Planning Department, 105 South Lamar Street, Roxboro, NC 27573.
Unincorporated Areas of Person County | Person County Planning and Zoning Department, 325 South Morgan Street, Roxboro, NC 27573.
Robeson County, North Carolina, and Incorporated Areas
Maps Available for Inspection Online at: http://www.fema.gov/preliminaryfloodhazarddata
Project: 15-04-A111S Preliminary Date: March 31, 2015
City of Lumberton | Planning Department, 501 East 5th Street, Lumberton, NC 28358.
Unincorporated Areas of Robeson County | Robeson County Inspections and Zoning Department, 435 Caton Road, Lumberton, NC 28360.
Vance County, North Carolina, and Incorporated Areas
Maps Available for Inspection Online at: http://www.fema.gov/preliminaryfloodhazarddata
Project: 11-04-7906S Preliminary Date: March 31, 2015
City of Henderson | Planning Department, 134 Rose Avenue, Henderson, NC 27536.
Town of Middleburg | Vance County Planning and Development Office, 156 Church Street, Suite 003, Henderson, NC 27536.
Unincorporated Areas of Vance County | Vance County Planning and Development Office, 156 Church Street, Suite 003, Henderson, NC 27536.
Wake County, North Carolina, and Incorporated Areas
Maps Available for Inspection Online at: http://www.fema.gov/preliminaryfloodhazarddata
Project: 14-04-9098S Preliminary Date: August 30, 2013
Town of Cary | Stormwater Services Division, Town Hall, 316 North Academy Street, Cary, NC 27513.
Unincorporated Areas of Wake County | Wake County Environmental Services Department, Waverly F. Akins Office Building, 337 South Salisbury Street, Raleigh, NC 27602.
Wake County, North Carolina, and Incorporated Areas
Maps Available for Inspection Online at: http://www.fema.gov/preliminaryfloodhazarddata
Project: 14-04-9706S Preliminary Date: April 30, 2014
Unincorporated Areas of Wake County | Wake County Environmental Services Department, Waverly F. Akins Office Building, 337 South Salisbury Street, Raleigh, NC 27602.
Wake County, North Carolina, and Incorporated Areas
Maps Available for Inspection Online at: http://www.fema.gov/preliminaryfloodhazarddata
Project: 11-04-7660S Preliminary Date: March 31, 2015
City of Raleigh | Engineering Department, Municipal Building, 222 West Hargett Street, Raleigh, NC 27601.
Town of Apex | Engineering Department, 73 Hunter Street, Apex, NC 27502.
Town of Cary | Stormwater Services Division, Town Hall, 316 North Academy Street, Cary, NC 27513.
Town of Fuquay-Varina | Planning Department, Town Hall, 401 Old Honeycutt Road, Fuquay-Varina, NC 27526.
Town of Garner | Engineering Department, 900 Seventh Avenue, Building B, Garner, NC 27529.
Town of Holly Springs | Engineering Department, 128 South Main Street, Holly Springs, NC 27540.
Town of Knightdale | Town Hall, 950 Steeple Square Court, Knightdale, NC 27545.
Town of Morrisville | Planning Department, Town Hall, 260 Town Hall Drive, Suite B, Morrisville, NC 27560.
Town of Rolesville | Planning Department, Town Hall, 502 Southtown Circle, Rolesville, NC 27571.
Town of Wake Forest | Planning Department, 301 South Brooks Street, Third Floor, Wake Forest, NC 27587.
Town of Wendell | Planning Department, 15 East Fourth Street, Wendell, NC 27591.
Town of Zebulon | Planning Department, Town Hall, 1003 North Arendell Avenue, Zebulon, NC 27597.
Unincorporated Areas of Wake County | Wake County Environmental Services Department, Waverly F. Akins Office Building, 337 South Salisbury Street, Raleigh, NC 27602.

[FR Doc. 2016-09839 Filed 4-26-16; 8:45 am]

BILLING CODE 9110-12-P